DEPARTMENT OF ENERGY

Federal Energy Regulatory Commission

Combined Notice of Filings

Take notice that the Commission has received the following Natural Gas Pipeline Rate and Refund Report filings:

Filings Instituting Proceedings

Docket Numbers: RP17-363-003.

Applicants: Eastern Shore Natural Gas Company.

Description: Compliance filing Alternative Motion Filing to be effective 8/1/2017.

Filed Date: 8/30/17.

Accession Number: 20170830-5050.

Comments Due: 5 p.m. ET 9/11/17.

Docket Numbers: RP17-975-001.

Applicants: Gulf South Pipeline Company, LP.

Description: Tariff Amendment: Amendment to Filing in Docket No. RP17-975-000 to be effective 8/17/2017.

Filed Date: 8/30/17.

Accession Number: 20170830-5099.

Comments Due: 5 p.m. ET 9/11/17.

Docket Numbers: RP17-982-000.

Applicants: National Fuel Gas Supply Corporation.

Description: § 4(d) Rate Filing: Heath Station Abandonment to be effective 10/2/2017.

Filed Date: 8/30/17.

Accession Number: 20170830-5007.

Comments Due: 5 p.m. ET 9/11/17.

Docket Numbers: RP17-983-000.

Applicants: Algonquin Gas Transmission, LLC.

Description: Compliance filing AGT 2017 OFO Penalty Disbursement Report.

Filed Date: 8/30/17.

Accession Number: 20170830-5042.

Comments Due: 5 p.m. ET 9/11/17.

Docket Numbers: RP17-984-000.

Applicants: Texas Eastern Transmission, LP.

Description: Compliance filing 2017 Operational Entitlements Filing.

Filed Date: 8/30/17.

Accession Number: 20170830-5043.

Comments Due: 5 p.m. ET 9/11/17.

Docket Numbers: RP17-985-000.

Applicants: Empire Pipeline, Inc.

Description: Compliance filing CF—Settlement Rates (October 2017) to be effective 10/1/2017.

Filed Date: 8/30/17.

Accession Number: 20170830-5060.

Comments Due: 5 p.m. ET 9/11/17.

Docket Numbers: RP17-986-000.

Applicants: El Paso Natural Gas Company, L.L.C.

Description: § 4(d) Rate Filing: Negotiated Rate Agreement Update (APS Sept 2017) to be effective 9/1/2017.

Filed Date: 8/30/17.

Accession Number: 20170830-5074.

Comments Due: 5 p.m. ET 9/11/17.

Docket Numbers: RP17-987-000.

Applicants: Mojave Pipeline Company, L.L.C.

Description: § 4(d) Rate Filing: Passport to DART Implementation Filing to be effective 10/1/2017.

Filed Date: 8/30/17.

Accession Number: 20170830-5078.

Comments Due: 5 p.m. ET 9/11/17.

Docket Numbers: RP17-988-000.

Applicants: Kern River Gas Transmission Company.

Description: § 4(d) Rate Filing: 2017 August Negotiated Rate to be effective 8/30/2017.

Filed Date: 8/30/17.

Accession Number: 20170830-5081.

Comments Due: 5 p.m. ET 9/11/17.

Docket Numbers: RP17-989-000.

Applicants: Southern Natural Gas Company, L.L.C.

Description: § 4(d) Rate Filing: Fuel Retention Rates—Winter 2017 to be effective 10/1/2017.

Filed Date: 8/30/17.

Accession Number: 20170830-5097.

Comments Due: 5 p.m. ET 9/11/17.

Docket Numbers: RP17-990-000.

Applicants: Northern Natural Gas Company.

Description: Petition for a Limited Waiver of Northern Natural Gas Company under RP17-990.

Filed Date: 8/30/17.

Accession Number: 20170830-5156.

Comments Due: 5 p.m. ET 9/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2017.
Nathaniel J. Davis, Sr.,
Deputy Secretary.

[FR Doc. 2017-19148 Filed 9-8-17; 8:45 am]

BILLING CODE 6717-01-P